DEPARTMENT OF HEALTH AND HUMAN SERVICES

National Institutes of Health

National Cancer Institute; Amended Notice of Meeting

Notice is hereby given of a change in the meeting of the National Cancer Advisory Board and NCI Board of Scientific Advisors, June 23, 2013, 05:00 p.m. to June 25, 2013, 12:00 p.m., National Institutes of Health, Building 31, C Wing, 6th Floor, 31 Center Drive, Conference Room 10, Bethesda, MD, 20892 which was published in the Federal Register on May 21, 2013, 78 FR 29758.

This notice is being amended to cancel the second day of the meeting on June 25, 2013, and to change the following open and closed session times. On June 24, 2013 the open session will be from 8:30 a.m. to 4:00 p.m. and the closed session will be from 4:00 p.m. to 5:15 p.m. The meeting was originally scheduled from 9:00 a.m. to 3:30 p.m. for the open session then 3:30 p.m. to 5:00 p.m. for the closed session. The meeting is partially closed to the public.

Dated: May 23, 2013.
Melanie J. Gray,
Program Analyst, Office of Federal Advisory Committee Policy.

[FR Doc. 2013-12881 Filed 5-30-13; 8:45 am]

BILLING CODE 4140-01-P